DEPARTMENT OF COMMERCE

National Oceanic and Atmospheric Administration

50 CFR Part 622

[Docket No. 231101-0256; RTID 0648-XE647 and Docket No. 230914-0219; RTID 0648-XE741]

2025 Recreational Season Announcement and Closure for Golden Tilefish in the South Atlantic; 2025 Recreational Accountability Measure and Closure for Gag in the South Atlantic; Correction

AGENCY: National Marine Fisheries Service (NMFS), National Oceanic and Atmospheric Administration (NOAA), Commerce.

ACTION: Temporary rule; correction.

SUMMARY: This document contains corrections to two temporary rules published in the Federal Register on March 20, 2025, with an effective date span of March 21 through December 31, 2025, and March 24, 2025, with an effective date span of June 26 through December 31, 2025. Both of these temporary rules announced the season closure dates for the recreational harvest of golden tilefish and gag, respectively, in the U.S. exclusive economic zone (EEZ) of the South Atlantic. This document corrects the subject headings of those temporary rules.

DATES: This correction is effective on March 31, 2025.

FOR FURTHER INFORMATION CONTACT: Mary Vara, NMFS Southeast Regional Office, telephone: 727-824-5305, email: mary.vara@noaa.gov.

SUPPLEMENTARY INFORMATION: NMFS is correcting the subject headings of the temporary rules that published in the Federal Register on March 20, 2025 (90 FR 13099), and March 24, 2025 (90 FR 13425).

Corrections

In Federal Register documents 2025-04788, that published on March 20, 2025, at 90 FR 13099, and 2025-04903, that published March 24, 2025, at 90 FR 13425, the following corrections are made:

1. In the Federal Register issue of March 20, 2025, on page 13099, at the top of the second column, correct the subject heading of the temporary final rule to read as: “2025 Recreational Season Announcement and Closure for Golden Tilefish in the South Atlantic”.

2. In the Federal Register issue of March 24, 2025, on page 13425, in the middle of the second column, correct the subject heading of the temporary final rule to read as: “2025 Recreational Accountability Measure and Closure for Gag in the South Atlantic”.

Authority: 16 U.S.C. 1801 et seq.

Dated: March 26, 2025.
Karen H. Abrams,
Acting Director, Office of Sustainable Fisheries, National Marine Fisheries Service.

[FR Doc. 2025-05501 Filed 3-27-25; 4:15 pm]

BILLING CODE 3510-22-P